NATIONAL SCIENCE FOUNDATION

Committee Management Renewal

The NSF management officials having responsibility for the Proposal Review Panel for International and Integrative Activities, #2469 has determined that renewing this committee for another two years and amending the committee name to the Proposal Review Panel for Integrative Activities due to a recent NSF reorganization is necessary and in the public interest in connection with the performance of duties imposed upon the Director, National Science Foundation (NSF), by 42 U.S.C. 1861 et seq. This determination follows consultation with the Committee Management Secretariat, General Services Administration.

Effective date for renewal and amendment of the committee name is July 10, 2015. For more information, please contact Crystal Robinson, NSF, at (703) 292-8687.

Dated: July 9, 2015.
Crystal Robinson,
Committee Management Officer.

[FR Doc. 2015-17189 Filed 7-13-15; 8:45 am]

BILLING CODE 7555-01-P